U.S.-CHINA ECONOMIC AND SECURITY REVIEW COMMISSION

Notice of Open Public Meetings; Correction

AGENCY: U.S.-China Economic and Security Review Commission.

ACTION: Notice of open public meetings; correction.

SUMMARY: The U.S.-China Economic and Security Review Commission published a document in the Federal Register of August 25, 2017, concerning notice of open public meetings to review and edit drafts of the Commission's 2017 Annual Report to Congress. The document contained incorrect dates for the October meetings and the topics to be discussed at the October meetings has also changed.

FOR FURTHER INFORMATION CONTACT: Christopher Fioravante, 444 North Capitol Street NW., Suite 602, Washington, DC 20001; telephone: 202-624-1455, or via email at cfioravante@uscc.gov.

Correction

In the Federal Register of August 25, 2017, in FR Doc. 2017-18018, on page 40647, in the third column, correct the DATES caption to remove “Thursday, October 4, 2017, from 9:00 a.m. to 5:00 p.m.; and Friday, October 5, 2017, from 9:00 a.m. to 5:00 p.m.” and add “Wednesday, October 4, 2017, from 9:00 a.m. to 5:00 p.m.; and Thursday, October 5, 2017, from 9:00 a.m. to 5:00 p.m.”

In the Federal Register of August 25, 2017, in FR Doc. 2017-18018, on page 40647, in the third column, correct the SUPPLEMENTARY INFORMATION caption to remove “U.S.-China Security Relations, including: Year in Review: Security and Foreign Affairs; and Hotspots along China's Maritime Periphery” and add “U.S.-China Security Relations, including: Year in Review: Security and Foreign Affairs; China's Military Modernization in 2017; and Hotspots along China's Maritime Periphery.”

Dated: September 14, 2017.
Michael Danis,
Executive Director, U.S.-China Economic and Security Review Commission.

[FR Doc. 2017-19946 Filed 9-19-17; 8:45 am]

BILLING CODE 1137-00-P